DEPARTMENT OF ENERGY

Office of Energy Efficiency and Renewable Energy

Appliance Standards and Rulemaking Federal Advisory Committee (ASRAC)

AGENCY: Office of Energy Efficiency and Renewable Energy, Department of Energy.

ACTION: Notice of Establishment of the Appliance Standards and Rulemaking Federal Advisory Committee (ASRAC) and Solicitation of Nominations for Membership.

SUMMARY: Pursuant to Section 9(a)(2) of the Federal Advisory Committee Act (FACA), and in accordance with Title 41, Code of Federal Regulations, Section 102-3.65, and following consultation with the Committee Management Secretariat, General Services Administration, and in accordance with the Negotiated Rulemaking Act of 1996 (NRA), and the Administrative Procedure Act, notice is hereby given that the ASRAC will be established for a two-year period.

The Committee will provide advice and recommendations to the Secretary of Energy on matters concerning the DOE's Appliances and Commercial Equipment Standards Program's (Program) test procedures and rulemaking process. Formation of this committee allows the Program to further improve the rulemaking process. The Committee provides advice and makes recommendations on the: (1) Development of minimum efficiency standards for residential appliances and commercial equipment, (2) development of product test procedures, (3) certification and enforcement of standards, (4) labeling for various residential products and commercial equipment, and (5) specific issues of concern to DOE, as requested by the Secretary of Energy, the Assistant Secretary for Energy Efficiency and Renewable Energy (EERE), and the Buildings Technologies Program Manager.

Additionally, the establishment of the Appliance Standards and Rulemaking Federal Advisory Committee has been determined to be essential to the conduct of the Department's mission and to be in the public interest in connection with the performance of duties imposed upon the Department of Energy by law and agreement. The Committee will operate in accordance with the provisions of the Federal Advisory Committee Act, and rules and regulations issued in implementation of that Act, the Negotiated Rulemaking Act of 1996 (NRA), and the Administrative Procedure Act (APA).

This notice also requests nominations for members on the Committee, to ensure a wide range of member candidates and a balanced committee.

DATES: The deadline for nominations for members must be received on or before April 2, 2012.

ADDRESSES: The nominee's name, resume, biography, and any letters of support must be submitted in electronic format via email to asrac@ee.doe.gov. Any requests for further information should also be sent via email to asrac@ee.doe.gov.

SUPPLEMENTARY INFORMATION: The Department of Energy is hereby soliciting nominations for members of the Committee. The Secretary of Energy will appoint approximately 25 Committee members. Members will be selected with a view toward achieving a balanced committee of experts in fields relevant to energy efficiency, appliance and commercial equipment standards, to include DOE, as well as representatives of industry (including manufacturers and trade associations representing manufacturers, component manufacturers and related suppliers, and retailers), utilities, energy efficiency/environmental advocacy groups and consumers. Committee members will serve for a term of three years or less and may be reappointed for successive terms, with no more than two successive terms. Appointments may be made in a manner that allows the terms of the members serving at any time to expire at spaced intervals, so as to ensure continuity in the functioning of the Committee. The Chair and Vice Chair of the Committee will be appointed by the Assistant Secretary for EERE, from among the selected members, and the Committee is expected to meet approximately twice per year, or as necessary. Subcommittees may be formed to address appliance standards. Some Committee members may be appointed as special Government employees, experts in fields relevant to energy efficiency and appliance and commercial equipment standards; or as representatives of industry (including manufacturers and trade associations representing manufacturers, component manufacturers and related suppliers, and retailers), utilities, energy efficiency/environmental advocacy groups and consumers. Special Government employees will be subject to certain ethical restrictions and such members will be required to submit certain information in connection with the appointment process.

Process and Deadline for Submitting Nominations: Qualified individuals can self-nominate or be nominated by any individual or organization. Nominators should submit (via email to asrac@ee.doe.gov) on or before April 2, 2012, a description of the nominee's qualifications, including matters enabling the Department to make an informed decision, not limited to, the nominee's education and professional experience. Should more information be needed, DOE staff will contact the nominee, obtain information from the nominee's past affiliations or obtain information from publicly available sources, such as the internet. A selection team will review the nomination packages. This team will be comprised of representatives from several DOE Offices. The selection team will seek balanced viewpoints and consider many criteria, including: (a) Scientific or technical expertise, knowledge, and experience; (b) stakeholder representation; (c) availability and willingness to serve; and (d) skills working in committees, subcommittees and advisory panels. The selection team will make recommendations regarding membership to the Assistant Secretary for EERE. The Assistant Secretary for EERE will submit a list of recommended candidates to the Secretary of Energy for review and selection of Committee members.

Nominations are open to all individuals without regard to race, color, religion, sex, national origin, age, mental or physical handicap, marital status, or sexual orientation. To ensure that recommendations to the Committee take into account the needs of the diverse groups served by DOE, membership shall include, to the extent practicable, individuals with demonstrated ability to represent minorities, women, and persons with disabilities. Please note, however, that Federally-registered lobbyists and individuals already serving on another Federal advisory committee are ineligible for nomination.

FOR FURTHER INFORMATION CONTACT: John Cymbalsky, Designated Federal Officer, by telephone at (202) 287-1692.

Issued in Washington, DC, on March 1, 2012.
Carol A. Matthews,
Committee Management Officer.

[FR Doc. 2012-5661 Filed 3-7-12; 8:45 am]

BILLING CODE 6450-01-P